DEPARTMENT OF EDUCATION

34 CFR Parts 668, 674, 682, and 685

Federal Student Aid Programs (Student Assistance General Provisions, Federal Perkins Loan Program, Federal Direct Loan Program, Federal Family Education Loan Program)

AGENCY: Office of Postsecondary Education, Department of Education.

ACTION: Notice extending the waivers and modifications of statutory and regulatory provisions pursuant to the Higher Education Relief Opportunities for Students (HEROES) Act of 2003, Public Law 108-76.

SUMMARY: We are extending the actions taken by the Secretary pursuant to the HEROES Act of 2003, as announced in a notice published in the Federal Register on December 12, 2003 (68 FR 69312), and extended in a notice published in the Federal Register on October 20, 2005 (70 FR 61037).

DATES: Effective Date: December 26, 2007. Applicability Date: The actions announced in the December 12, 2003, Federal Register notice and extended in the October 20, 2005, Federal Register notice are applicable from September 30, 2007, until September 30, 2012.

FURTHER INFORMATION CONTACT: Wendy Macias, Office of Postsecondary Education, U.S. Department of Education, 1990 K Street, NW., room 8017, Washington, DC 20006-8544. Telephone: (202) 502-7526. E-mail: Wendy.Macias@ed.gov.

If you use a telecommunications device for the deaf (TDD), you can call the Federal Relay Service (FRS), toll free at 1-800-877-8339.

Individuals with disabilities can obtain this document in an alternative format (e.g., Braille, large print, audiotape, or computer diskette) by contacting the contact person listed in this section.

SUPPLEMENTARY INFORMATION: In a notice published in the Federal Register on December 12, 2003 (68 FR 69312), the Secretary exercised the authority granted to her by the HEROES Act of 2003 and announced the waivers and modifications of statutory or regulatory provisions that were appropriate to assist individuals who are applicants and recipients of student financial assistance under Title IV of the Higher Education Act of 1965, as amended (HEA), and who—

• Are serving on active military duty during a war or other military operation or national emergency;

• Are performing qualifying National Guard duty during a war or other military operation or national emergency;

• Reside or are employed in an area that is declared a disaster area by any Federal, State, or local official in connection with a national emergency; or

• Suffered direct economic hardship as a direct result of a war or other military operation or national emergency, as determined by the Secretary.

Under the terms of the HEROES Act of 2003, the Secretary's authority to provide the waivers and modifications would expire on September 30, 2005. On September 30, 2005, Pub. L. 109-78 extended the expiration date of the Secretary's authority to September 30, 2007. Accordingly, the Secretary extended the expiration of the waivers and modifications published on December 12, 2003, in a notice in the Federal Register published on October 20, 2005 (70 FR 61037).

On September 30, 2007, the President signed into law Public Law 110-93, which eliminated the September 30, 2007, expiration date of the HEROES Act of 2003, thereby making permanent the Secretary's authority to issue waivers and modifications of statutory and regulatory provisions under the HEROES Act of 2003. As a result, we are extending the waivers and modifications announced by the Secretary in the notice published in the Federal Register on December 12, 2003. The actions will remain in effect until September 30, 2012, unless the Secretary issues a notice in the Federal Register terminating or changing those actions before September 30, 2012.

The Secretary intends to review the waivers and modifications published on December 12, 2003, in light of recent statutory and regulatory changes. After completing that review, the Secretary will consider whether to change some or all of the published waivers and modifications. Any changes to these waivers and modifications will be published in a notice in the Federal Register as required by the HEROES Act of 2003.

Electronic Access to This Document

You can view this document, as well as other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Catalog of Federal Domestic Assistance Numbers: 84.007 Federal Supplemental Educational Opportunity Grant Program; 84.032 Federal Family Education Loan Program; 84.032 Federal PLUS Program; 84.033 Federal Work Study Program; 84.038 Federal Perkins Loan Program; and 84.268 William D. Ford Federal Direct Loan Program.

Program Authority: 20 U.S.C. 1071, 1082, 1087a, 1087aa, Pub. L. 108-76, Pub. L. 109-78, Pub. L. 110-93.

Dated: December 19, 2007.
Diane Auer Jones,
Assistant Secretary for Postsecondary Education.

[FR Doc. E7-24947 Filed 12-21-07; 8:45 am]

BILLING CODE 4000-01-P